DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Input from Hawaii's Boat-based Anglers.

OMB Control Number: None.

Form Number(s): NA.

Type of Request: Regular submission (request for a new information collection).

Number of Respondents: 1,500.

Average Hours per Response: 20 minutes.

Burden Hours: 500.

Needs and Uses: This request is for a new information collection. The Magnuson-Stevens Fishery Conservation and Management Act (MSA) requires anglers who (1) engage in angling or spearfishing for fish in the Exclusive Economic Zone (EEZ); anadromous species in any tidal waters; or continental Shelf fishery resources beyond the EEZ, (2) operate a for-hire fishing vessel in the EEZ, (3) operate a for-hire fishing vessel that engages in angling or spearfishing for: Anadromous species in any tidal waters; or continental shelf fishery resources beyond the EEZ, (4) possess equipment used for angling or spearfishing and also possesses: Fish in the EEZ; anadromous species in any tidal waters; or continental shelf fishery resources beyond the EEZ to register annually with the National Angler Register, other than states which have received exempted status per regulations at 50 CFR 600.1415-1417 need not register with National Marine Fisheries Service (NMFS). Under 50 CFR 600.1417, MSA allows NMFS to exempt a State that has developed a qualifying regional survey that meets the Marine Recreational Information Program's National Data Standards.

The State of Hawaii is developing a comprehensive data collection program that will meet the requirements set forth at 50 CFR 600.1417 and exempt the State's anglers from the national registry requirement. The information gathered from the proposed voluntary survey of a sample of the State's registered boaters will be used to develop an ongoing (monitoring) survey of fishing catch and effort derived from Hawaii's private boaters—a required component of any qualifying regional survey. The survey instrument will also collect information to inform engagement of and projects aimed at local boat-based anglers under NOAA's National Recreational Saltwater Fishing Initiative.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: November 26, 2012.
Gwellnar Banks,
Management Analyst, Office of the Chief Information Officer.

[FR Doc. 2012-28953 Filed 11-29-12; 8:45 am]

BILLING CODE 3510-22-P